DEPARTMENT OF TRANSPORTATION

Federal Transit Administration

[FTA Docket No. FTA 2022-0008]

Agency Information Collection Activity Under OMB Review: Public Transportation Agency Safety Plan

AGENCY: Federal Transit Administration, Department of Transportation.

ACTION: Notice of request for comments.

SUMMARY: In accordance with the Paperwork Reduction Act of 1995, this notice announces the intention of the Federal Transit Administration (FTA) to request the Office of Management and Budget (OMB) to approve the extension of a currently approved information collection: Public Transportation Agency Safety Plan.

DATES: Comments must be submitted before May 23, 2022.

ADDRESSES: To ensure that your comments are not entered more than once into the docket, submit comments identified by the docket number by only one of the following methods:

1. Website: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9:00 a.m. and 5:00 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE, Docket Operations, M-30, West Building, Ground Floor, Room W12-140, Washington, DC 20590-0001 between 9:00 a.m. and 5:00 p.m., Monday through Friday, except federal holidays.

FOR FURTHER INFORMATION CONTACT: Sharece Tyer (202) 366-7205 or email: Sharece.Tyer@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Public Transportation Agency Safety Plan (OMB Number: 2132-0580).

Background: The Public Transportation Agency Safety Plan regulation (49 CFR part 673) establishes requirements for Agency Safety Plans as authorized under 49 U.S.C. 5329(d). The regulation requires States and certain operators of public transportation systems that receive Federal financial assistance under 49 U.S.C. Chapter 53 to develop Agency Safety Plans based on the Safety Management Systems (SMS) approach. The development and implementation of these plans will help ensure that public transportation systems are safe nationwide.

Each Public Transportation Agency Safety Plan must include, at minimum:

• An approval from the recipient's Board of Directors, or an Equivalent Authority;

• Methods for identifying and evaluating safety risks throughout all elements of the recipient's public transportation system;

• Strategies to minimize the exposure of the public, personnel, and property to hazards and unsafe conditions;

• A process and timeline for conducting an annual review and update of the plan;

• Performance targets based on the safety performance measures established in FTA's National Public Transportation Safety Plan;

• Assignment of an adequately trained safety officer who reports directly to the general manager, president, or equivalent officer; and

• A comprehensive safety training program for operations personnel and personnel directly responsible for safety that includes the completion of a safety training program and continuing safety education and training.

• A rail transit agency must include or incorporate by reference in its Agency Safety Plan an emergency preparedness and response plan or procedures.

Information collection requirements associated with this regulation include information collected by the agency to support its internal SMS processes and information collected by recipients to distribute to FTA.

The information collection conducted at the agency level to support internal SMS processes includes the regulatory requirement to maintain:

• Documents that set forth the Agency Safety Plan, including those related to implementing the SMS;

• Results from SMS processes and activities; and

• Documents included in whole, or by reference, that describe the programs, policies, and procedures used to carry out the Agency Safety Plan.

Transit agencies must maintain this documentation for a minimum of three years and must make this documentation available upon request to FTA, other Federal entities having jurisdiction, and the relevant State Safety Oversight Agency, if applicable.

The information collection exchange between FTA and its recipients consists of:

• Annual Certifications and Assurances. FTA requires operators of public transportation systems and States to certify compliance with 49 CFR part 673 through its annual submittal of Certifications and Assurances to FTA.

• Triennial Review Process. FTA incorporated questions specific to the Public Transportation Agency Safety Plan Rule into FTA's existing oversight questionnaire for transit agencies to evaluate areas of compliance.

• State Management Review Process. FTA also ensures compliance with this rule through its existing triennial State Management Review oversight process.

The information collection will continue to help guide transit agency and FTA's safety program priorities.

Respondents: State and local government agencies, including transit agencies.

Estimated Annual Number of Respondents: 755 respondents.

Estimated Annual Burden Hours per Respondent: 335 hours.

Estimated Total Annual Burden: 252,855 hours.

Frequency: Annually.

Nadine Pembleton,
Director Office of Management Planning.

[FR Doc. 2022-05950 Filed 3-21-22; 8:45 am]

BILLING CODE 4910-57-P